DEPARTMENT OF HEALTH AND HUMAN SERVICES

National Institutes of Health

Nominations to the Report on Carcinogens and Office of Health Assessment and Translation; Request for Information

SUMMARY: National Toxicology Program (NTP) Office of the Report on Carcinogens (ORoC) and Office of Health Assessment and Translation (OHAT) request information on nine substances, mixtures, and exposure circumstances (collectively referred to as “substances”). Six substances are nominated for possible review for future editions of the Report on Carcinogens (RoC). Three substances are being considered by OHAT for evaluation of non-cancer health outcomes.

DATES: Deadline for receipt of information is November 6, 2015.

ADDRESSES: Information on substances for possible review for the RoC should be submitted electronically on the ORoC nominated substances page (http://ntp.niehs.nih.gov/go/rocnom) or to lunn@niehs.nih.gov. Information on OHAT nominations can be submitted electronically on the OHAT nominated topics page (http://ntp.niehs.nih.gov/go/763346) or to thayer@niehs.nih.gov.

FOR FURTHER INFORMATION CONTACT: RoC Nominations: Dr. Ruth Lunn, Director, ORoC; telephone (919) 316-4637; lunn@niehs.nih.gov. OHAT Nominations: Dr. Kristina Thayer, Director, OHAT, telephone (919) 541-5021; thayer@niehs.nih.gov. Address for Dr. Lunn and Dr. Thayer: DNTP, NIEHS, 111 T.W. Alexander Drive, P.O. Box 12233, Research Triangle Park, NC 27709.

SUPPLEMENTARY INFORMATION: Request for Information: The NTP requests information on nine substances: Six substances have been nominated for possible review for future editions of the RoC (see http://ntp.niehs.nih.gov/go/rocnom) and three are under consideration by OHAT for evaluation of non-cancer health outcomes. (see http://ntp.niehs.nih.gov/go/763346). Specifically, NTP requests information on each substance regarding: (1) Data on current production, use patterns, and human exposure; (2) published, ongoing, or planned studies related to evaluating adverse health outcomes (e.g., cancer, development, reproductive, or immunological disorders); (3) scientific issues important for prioritizing and assessing adverse health outcomes; and (4) names of scientists with expertise or knowledge about the substance—please include any bibliographic citations when available. NTP will use this information in determining which substances to propose for formal health hazard evaluations.

Six Substances Nominated for Possible Review for the RoC *

Flame Retardants

• Pentabromodiphenyl ether mixture (DE-71)

• Tetrabromobisphenol A, CASRN 79-94-7

Water Disinfection Byproducts

• Dibromoacetonitrile, CASRN 3252-43-5

• Di- and tri-haloacetic acids (as a class); specifically, those haloacetic acids with similar functional or structural properties that may cause similar health hazards

Other

• Fluoride, CASRN 7681-49-4

• Vinylidene chloride, CASRN 5-35-4

* Evaluations for the RoC may seek to list a new substance in the report, reclassify the listing status of a substance already listed, or remove a listed substance.

Three substances are being considered for OHAT evaluation of non-cancer health outcomes.

• Mountaintop removal mining (health impacts on surrounding communities)

• Neonicotinoid pesticides

• Fluoride (developmental neurotoxicity and endocrine disruption)

Information on RoC nominations should be submitted electronically on the ORoC nomination page (http://ntp.niehs.nih.gov/go/rocnom) or by email to lunn@niehs.nih.gov. Information on OHAT nominations should be submitted electronically on the OHAT nominated topics page (http://ntp.niehs.nih.gov/go/763346) or to thayer@niehs.nih.gov. Public comments should include the submitter's name, affiliation, sponsoring organization (if any) along with appropriate contact information (telephone and email). Written information received in response to this notice will be posted on the NTP Web site, and the submitter identified by name, affiliation, and/or sponsoring organization.

Responses to this request for information are voluntary. This request for information is for planning purposes only and is not a solicitation for applications or an obligation on the part of the U.S. Government to provide support for any ideas identified in response to it. Please note that the U.S. Government will not pay for the preparation of any information submitted or for its use. No proprietary, classified, confidential, or sensitive information should be included in your response.

Background Information on ORoC: On behalf of NTP, ORoC manages preparation of the RoC following an established, four-part process (http://ntp.niehs.nih.gov/go/rocprocess). The RoC is a congressionally mandated, science-based, public health report that identifies agents, substances, mixtures, or exposures (collectively called “substances”) in our environment that pose a cancer hazard for people in the United States. Published biennially, each edition of the RoC is cumulative and consists of substances newly reviewed in addition to those listed in previous editions. Newly reviewed substances with their recommended listing are reviewed and approved by the Secretary of Health and Human Services. The 13th RoC, the latest edition, was published on October 2, 2014 (available at http://ntp.niehs.nih.gov/go/roc13). The 14th RoC is under development.

Background Information on OHAT: On behalf of NTP, OHAT conducts literature-based evaluations to assess the evidence that environmental chemicals, physical substances, or mixtures (collectively referred to as “substances”) cause adverse non-cancer health outcomes. As part of these evaluations, NTP may also provide opinions on whether these substances might be of concern for causing adverse effects on human health given what is known about toxicity and current human exposure levels.

Dated: October 1, 2015.
John R. Bucher,
Associate Director, National Toxicology Program.

[FR Doc. 2015-25434 Filed 10-6-15; 8:45 am]

BILLING CODE 4140-01-P